ENVIRONMENTAL PROTECTION AGENCY

[EPA-HQ-OAR-2003-0152; FRL-8291-8]

Agency Information Collection Activities; Submission to OMB for Review and Approval; Comment Request; Compliance Assurance Monitoring Program (Renewal); EPA ICR No. 1663.05, OMB Control No. 2060-0376

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before April 25, 2007.

ADDRESSES: Submit your comments, referencing docket ID number EPA-HQ-OAR-2003-0152, to (1) EPA online using http://www.regulations.gov (our preferred method), or by e-mail to docket.oeca@epa.gov, or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Peter Westlin, Office of Air Quality Planning and Standards, Environmental Protection Agency, mail code D243-05, Research Triangle Park, NC 27711; telephone number: 919-541-1058; fax number: 919-541-1039; e-mail address: westlin.peter@epa.gov.

SUPPLEMENTARY INFORMATION: EPA has submitted the following ICR to OMB for review and approval according to the procedures prescribed in 5 CFR 1320.12. On December 6, 2006 (71 FR 70757), EPA sought comments on this ICR pursuant to 5 CFR 1320.8(d). EPA received no comments. Any additional comments on this ICR should be submitted to EPA and OMB within 30 days of this notice.

How Can I Access the Docket and/or Submit Comments?

EPA has established a public docket for this ICR under Docket ID No. EPA-HQ-OAR-2003-0152 which is available either electronically at http://www.regulations.gov or in hard copy at the EPA Docket Center, Public Reading Room, EPA West, Room 3334, 1301 Constitution Avenue, NW., Washington, DC 20004. The normal business hours are 8:30 a.m. to 4:30 p.m., Monday through Friday, excluding Federal holidays. The telephone number is (202) 566-1742.

Use www.regulations.gov to obtain a copy of the draft collection of information, submit or view public comments, access the index listing of the contents of the docket, and to access those documents in the public docket that are available electronically. Once in the system, select “search,” then key in the docket ID number identified in this document.

Title: Compliance Assurance Monitoring Program (Renewal).

ICR Numbers: EPA ICR No. 1663.05, OMB Control No. 2060-0376.

ICR Status: This ICR is currently scheduled to expire on March 31, 2007. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Clean Air Act (Act) contains several provisions directing EPA to require source owners to conduct monitoring to support certification as to their status of compliance with applicable requirements. These provisions are set forth title V (operating permits provisions) and title VII (enforcement provisions) of the Act. Title V directs EPA to implement monitoring and certification requirements through the operating permits program. Section 504(b) of the Act allows EPA to prescribe by rule, methods and procedures for determining compliance recognizing that continuous emissions monitoring systems need not be required if other procedures or methods provide sufficiently reliable and timely information for determining compliance. Under section 504(c), each operating permit must “set forth inspection, entry, monitoring, compliance, certification, and reporting requirements to assure compliance with the permit terms and conditions.” Section 114(a)(3) requires EPA to promulgate rules for enhanced monitoring and compliance certifications. Section 114(a)(1) of the Act provides additional authority concerning monitoring, reporting, and record keeping requirements. This section provides the Administrator with the authority to require any owner or operator of a source to install and operate monitoring systems and to record the resulting monitoring data. EPA promulgated the Compliance Assurance Monitoring (CAM) rule, 40 CFR part 64, on October 22, 1997 (62 FR 54900) to implement these authorities.

In accordance with these provisions, the monitoring information that source owners must submit must also be available to the public, except as entitled top protection from disclosure as allowed in section 114(c) of the Act.

Burden Statement: We estimate the annual public reporting and recordkeeping burden for this collection of information to average about 445 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Based on the Agency's knowledge of the number of title V permits issued since 1997 and the implementation of part 64 through permit renewals, the expected impact of the CAM program for the 3 years from October 1, 2006 until September 30, 2009 is about 3.12 million hours annually. The CAM rule will incur an average annual cost of about $114.5 million in 2005 dollars. There are no annualized capital and operation and maintenance costs.

The CAM program potentially affects about 25,000 pollutant-specific emissions units nationwide. The annual burden for source owners or operators is about 3.1 million hours for pollutant-specific emissions units combined. The CAM rule will incur an average annual cost of about $112 million in 2005 dollars. There are no annualized capital and operational and maintenance costs for monitoring programs in the cost burden.

During the period, permitting authorities will review CAM rule submittals from source owners or operators whose permits have already been issued and are renewing those permits as the 5-year permit terms expire. Permitting authorities will also be interacting with the source owners or operators in addressing the CAM in semi-annual monitoring reports and reporting CAM data as necessary. We estimate the annual CAM burden to permitting authorities to be about 37,000 hours and about $1.9 million.

The ICR provides a detailed explanation of the Agency's estimate, which is only briefly summarized here:

Respondents/Affected Entities: Owners and operators of title V sources with controlled pollutant specific emissions units that have a pre-control potential to emit major amounts of regulated air pollutants and permitting authorities.

Estimated Number of Respondents: 418 (sources plus permitting authorities, annually)

Frequency of Response: Incremental semi-annual and annual reports, plus every 5 years at permit renewal.

Estimated Total Annual Hour Burden: 3,121,743 hours.

Estimated Total Annual Costs: $114.5 million. This includes annual labor costs for sources and permitting authorities and no capital or O&M costs.

Changes in the Estimate: There is an increase of 3,058,055 hours in the total estimated respondent annual burden currently identified in the OMB Inventory of Approved ICR Burdens. This increase reflects the significant increase in number of respondents resulting from the implementation of the rule and an increased number of operating permit renewals, and EPA's reassessment of the reporting and recordkeeping burdens associate with implementing this rule.

Dated: March 16, 2007.
Oscar Morales,
Director, Collection Strategies Division.

[FR Doc. E7-5488 Filed 3-23-07; 8:45 am]

BILLING CODE 6560-50-P